DEPARTMENT OF LABOR

Employment and Training Administration

[TA-W-64,681]

United State Steel—Granite City Works, Granite City, IL; Notice of Negative Determination Regarding Application for Reconsideration

By application dated January 28, 2009, the United Steelworkers, District 7 requested administrative reconsideration of the Department's negative determination regarding eligibility to apply for Trade Adjustment Assistance (TAA) and Alternative Trade Adjustment Assistance (ATAA), applicable to workers and former workers of the subject firm. The denial notice was signed on December 23, 2008 and published in the Federal Register on January 14, 2009 (74 FR 2139).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The initial investigation resulted in a negative determination, which was based on the finding that imports of flat rolled steel did not contribute importantly to worker separations at the subject facility and there was no shift of production to a foreign country. The subject firm did not import flat rolled steel in 2006, 2007 and January through November 2008. Furthermore, the investigation revealed that sales and production of flat rolled steel at the subject firm increased from January through November, 2008 when compared with the same period in 2007.

The petitioner alleged that aggregate imports of flat rolled steel, although diminished from one year earlier, still amounted to a significant amount contributing importantly to the worker separations and to the decline in sales and production at the Granite City plant.

In order to establish import impact, the Department considers sales, production and import numbers for the relevant period (one year prior to the date of the petition). Imports of flat rolled steel did not increase during the relevant period, while sales and production of flat rolled steel increased at the subject firm. There was no shift in production from subject firm abroad during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, D.C., this 11th day of March, 2009.
Elliott S. Kushner,
Certifying Officer, Division of Trade Adjustment Assistance.

[FR Doc. E9-6240 Filed 3-20-09; 8:45 am]

BILLING CODE 4510-FN-P